FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (http://www.fmc.gov) or by contacting the Office of Agreements at (202) 523-5793 or tradeanalysis@fmc.gov.

Agreement No.: 011075-070.

Title: Central America Discussion Agreement.

Parties: APL Co. PTE Ltd.; Crowley Liner Services, Inc.; Dole Ocean Cargo Express; Great White Fleet; King Ocean Services Limited; and Seaboard Marine, Ltd.

Filing Party: Wayne R. Rohde, Esq.; Sher & Blackwell LLP; 1850 M Street, NW., Washington, DC 20036.

Synopsis: The amendment adds a new section authorizing the exchange of certain trade data including economic forecasts; past, present, and future trade conditions; and revenues, costs, and profits and losses.

Agreement No.: 011075-071.

Title: Central America Discussion Agreement.

Parties: APL Co. PTE Ltd.; Crowley Liner Services, Inc.; Dole Ocean Cargo Express; Great White Fleet; King Ocean Services Limited; and Seaboard Marine, Ltd.

Filing Party: Wayne R. Rohde, Esq.; Sher & Blackwell LLP; 1850 M Street, NW., Washington, DC 20036.

Synopsis: The amendment adds authority for the parties to enter into contracts with vendors for services, including the collection of charges.

Agreement No.: 012060.

Title: CSAV/NYK Peru Space Charter Agreement.

Parties: Compania Sud Americana de Vapores S.A. and Nippon Yusen Kaisha.

Filing Party: Michael B. Holt, Esq.; Vice President & General Counsel; NYK Line (North America), Inc.; 300 Lighting Way 5th Floor, Secaucus, NJ 07094.

Synopsis: The agreement authorizes CSAV to charter space vessels to NYK in the trade from Newark, NJ, Baltimore, MD, and Miami, FL to ports in Peru.

By Order of the Federal Maritime Commission.
Karen V. Gregory,
Secretary.

[FR Doc. E8-30679 Filed 12-23-08; 8:45 am]

BILLING CODE 6730-01-P